DEPARTMENT OF TRANSPORTATION

[Docket OST-2001-10144]

Notice of Submission of Proposed Information Collection to OMB

AGENCY: Office of the Secretary, DOT.

ACTION: Notice.

SUMMARY: The proposed information collection requirement described below has been submitted to the Office of Management and Budget (OMB) for emergency review and approval, as required by the Paperwork Reduction Act. The Department is soliciting public comments on two consumer complaint forms. One complaint form concerns accessibility problems experienced by a passenger with a disability in air travel and the other complaint form concerns alleged discrimination on the basis of race, ethnicity, national origin, religion, sex or sexual orientation by an airline.

DATES: Comments are due August 17, 2001. Interested persons are invited to submit comments regarding this proposal.

FOR FURTHER INFORMATION CONTACT: Blane A. Workie, Office of the General Counsel, Department of Transportation, 400 7th Street, SW., Room 10424, Washington, DC 20590, 202-366-9342 (voice), (202) 755-7687 (TTY), 202-366-7132 (fax), or blane.workie@ost.dot.gov (email). Arrangements to receive this notice in an alternative format may be made by contacting the above named individual.

SUPPLEMENTARY INFORMATION: This notice informs the public that the Department of Transportation (DOT) has submitted to OMB, for emergency processing, an information collection package with respect to the two proposed complaint forms concerning air travel service problems.

The Department will use the complaint forms for the collection of information from person(s) who wish to file complaints to the Department regarding accessibility of airline service and alleged discrimination by an airline. The Department has submitted the proposal for the collection of information to OMB for review, as required by the Paperwork Reduction Act (44 U.S.C. chapter 35). The Department has requested emergency clearance of the collection of information, as described below, with approval being sought by August 15, 2001.

(1) Title of the Information Collection Proposal

Complaint Concerning Accessibility of Airline Service (Passengers with Disabilities); Complaint Alleging Discrimination by an Airline Based on Race, Ethnicity, National Origin, Religion, Sex, or Sexual Orientation.

(2) Summary of the Collection of Information

Each respondent (claimant) would be asked to submit the following information:

1. Name, address, and telephone number of passenger or contact person, if other than the passenger.

2. Name of the airline or company about which person(s) is complaining.

3. Date(s) of the alleged violation (i.e. flight date).

4. Flight number, if known.

5. Origin and destination cities of trip.

6. Brief description of the alleged violation and prohibited bases of the complaint.

7. Brief description of efforts to resolve the complaint through airline staff.

8. Information as to whether complainant has or will file a claim with a court or another agency.

(3) Description of the Need for the Information and Its Proposed Use

The complaint forms provide information to make the public aware of their rights. Additionally, the complaint form concerning accessibility of airline service makes it easier and provides a less burdensome way for person(s) to file a complaint under the Air Carrier Access Act (ACAA) and 14 CFR part 382, our implementing regulation. The ACAA prohibits discrimination against passengers with disabilities by air carriers in providing air transportation service. The complaint form concerning allegations of discrimination by an airline make it easier and less burdensome for person(s) who wish to file a complaint under various federal statues, particularly 49 U.S.C. 40127, prohibiting U.S. and foreign air carriers from subjecting any air traveler to discrimination on the bases of race, color, national origin, religion, sex or ancestry.

The completion of the complaint forms is entirely voluntarily. Many consumers prefer completing the complaint forms to drafting a letter or email because it tends to take less time. An additional benefit of the complaint forms is that the forms specifically ask questions about the type of information that is needed to conduct an investigation. The information in the complaint forms will be used to contact complainants and for conducting investigations.

The forms are written in plain English; are user-friendly; take less time to complete than a letter or email; and enhance the quality and clarity of information collected that is required to investigate alleged complaints of discrimination.

(4) Description of the Likely Respondents, and Proposed Frequency of the Response to the Collection of Information:

The likely respondents will be consumers who wish to file complaints of discrimination. The Department of Transportation presently receives approximately 675 disability complaints a year and 75 discrimination complaints a year. Assuming that 5% of complainants will use the complaint forms, the estimated number of respondents is 38. The proposed frequency of the response to the collection of information is annually.

(5) Estimate of the Total Reporting Burden That Will Result From the Collection of Information:

Number of respondents: 38

Total annual responses: 38

Total burden hours: 19 (@ 30 minutes per response).

Authority: Section 3507 of the Paperwork Reduction Act of 1995, 44 U.S.C. Chapter 35, as amended.

Issued this 13th day of July, 2001, at Washington, DC.
Michael A. Robinson,
Clearance Officer, Department of Transportation.

[FR Doc. 01-17941 Filed 7-17-01; 8:45 am]

BILLING CODE 4910-62-P